LIBRARY OF CONGRESS

Copyright Office

37 CFR Part 201

[Docket No. 2012-5]

Verification of Statements of Account Submitted by Cable Operators and Satellite Carriers

AGENCY: Copyright Office, Library of Congress.

ACTION: Notice of proposed rulemaking; extension of reply comment period.

SUMMARY: The Copyright Office is again extending the deadline for filing reply comments in response to its Notice of Proposed Rulemaking concerning the verification of Statements of Account and royalty payments that are deposited with the Office by cable operators and satellite carriers.

DATES: Reply comments on the proposed rule published at 77 FR 35643, June 14, 2012, must be received in the Office of the General Counsel of the Copyright Office no later than 5 p.m. Eastern Daylight Time (EDT) on October 24, 2012.

ADDRESSES: The Copyright Office strongly prefers that comments be submitted electronically. A comment submission page is posted on the Copyright Office Web site at http://www.copyright.gov/docs/soaaudit/. The Web site interface requires submitters to complete a form specifying name and other required information, and to upload comments as an attachment. To meet accessibility standards, all comments must be uploaded in a single file in either the Adobe Portable Document File (PDF) format that contains searchable, accessible text (not an image); Microsoft Word; WordPerfect; Rich Text Format (RTF); or ASCII text file format (not a scanned document). The maximum file size is 6 megabytes (MB). The name of the submitter and organization should appear on both the form and the face of the comments. All comments will be posted publicly on the Copyright Office Web site exactly as they are received, along with names and organizations if provided. If electronic submission of comments is not feasible, please contact the Copyright Office at (202) 707-8380 for special instructions.

FOR FURTHER INFORMATION CONTACT: Tanya Sandros, Deputy General Counsel, or Erik Bertin, Attorney Advisor, Copyright GC/I&R, P.O. Box 70400, Washington, DC 20024. Telephone: (202) 707-8380. Telefax: (202) 707-8366.

SUPPLEMENTARY INFORMATION: On June 14, 2012, the Copyright Office published a notice of proposed rulemaking and request for comments concerning a new regulation that will allow copyright owners to audit the Statements of Account and royalty fees that cable operators and satellite carriers deposit with the Copyright Office under Sections 111 and 119 of the Copyright Act. The Office received comments on the proposed regulation from groups representing copyright owners, cable operators, and satellite carriers, which have been posted on the Copyright Office Web site at http://www.copyright.gov/docs/soaaudit/comments/index.html. The notice of proposed rulemaking stated that reply comments would be due on September 12, 2012. See 77 FR 35643, June 14, 2012.

On August 24, 2012, the Office received a joint motion to extend the reply comment period (posted on the Office Web site at: http://www.copyright.gov/docs/soaaudit/soa_audit.html), which was filed by the National Cable & Telecommunications Association (“NCTA”),¹ the Joint Sports Claimants, and the Program Suppliers.² The moving parties asked the Office to extend the deadline for reply comments until October 3, 2012 in order to determine whether they agree on any aspects of the proposed regulation, which in turn, may narrow the issues that need to be resolved in this rulemaking. The Office granted the moving parties' request, stating that reply comments would be due by October 3, 2012, as requested. See 77 FR 55783 (Sept. 11, 2012).

¹ The NCTA is a trade association that represents cable operators. Many of the NCTA's members file Statements of Account with and pay royalties to the Copyright Office under the statutory license set forth in Section 111 of the Copyright Act, which allows them to retransmit television and radio programs that are embodied in local distant broadcast transmissions.

² Both the Joint Sports Claimants and the Program Suppliers represent copyright owners who are the beneficiaries of the royalties that are paid under the Section 111 and 119 statutory licenses. Generally speaking, the Joint Sports Claimants represent copyright owners that produce professional and college sports programming, while the Program Suppliers represent copyright owners that produce and/or syndicate movies, programs, and specials that are broadcast by television stations.

On September 26, 2012 the NCTA, the Joint Sports Claimants, and the Program Suppliers filed a second motion to extend the reply comment period for another three weeks (posted on the Office Web site at: http://www.copyright.gov/docs/soaaudit/soa_audit.html). Specifically, the moving parties asked the Office to extend the deadline for reply comments until October 24, 2012. In support of their latest motion, the moving parties stated that they have discussed the proposed regulation, but given the complexity of the issues involved, they need more time to complete their discussions and to prepare a joint set of reply comments (assuming they are able to reach an agreement). The moving parties stated that a three week extension would facilitate these discussions without causing harm to any interested person.

In their initial motion, the NCTA, the Joint Sports Claimants, and the Program Suppliers asked the Office to extend the deadline for reply comments until October 3rd, indicating that this would give them a sufficient amount of time to discuss the proposed regulation and to reach an agreement “regarding procedures to be presented to the Office as part of the reply comments.” Having granted that request, the Office is reluctant to extend the deadline further. But in the interest of giving the NCTA, the Joint Sports Claimants, the Program Suppliers, and any other interested parties an opportunity to wrap-up their discussions, and if possible, to prepare a joint recommendation on the proposed regulation, the Office has decided to grant the stakeholders' request and extend the deadline for filing reply comments by another three weeks, making reply comments due by October 24, 2012. Further extensions will not be granted.

Dated: September 27, 2012.
Maria A. Pallante,
Register of Copyrights.

[FR Doc. 2012-24321 Filed 10-2-12; 8:45 am]

BILLING CODE 1410-30-P